FEDERAL RESERVE SYSTEM

Federal Open Market Committee; Domestic Policy Directive of March 27 and 28, 2006

In accordance with § 271.25 of its rules regarding availability of information (12 CFR part 271), there is set forth below the domestic policy directive issued by the Federal Open Market Committee at its meeting held on March 27 and 28, 2006.¹

¹ Copies of the Minutes of the Federal Open Market Committee Meeting on March 27 and 28, 2006, which includes the domestic policy directive issued at the meeting, are available upon request to the Board of Governors of the Federal Reserve System, Washington, DC 20551. The minutes are published in the Federal Reserve Bulletin and in the Board's annual report.

The Federal Open Market Committee seeks monetary and financial conditions that will foster price stability and promote sustainable growth in output. To further its long-run objectives, the Committee in the immediate future seeks conditions in reserve markets consistent with increasing the federal funds rate to an average of around 43/4 percent.

The vote encompassed approval of the paragraph below for inclusion in the statement to be released shortly after the meeting:

“The Committee judges that some further policy firming may be needed to keep the risks to the attainment of both sustainable economic growth and price stability roughly in balance. In any event, the Committee will respond to changes in economic prospects as needed to foster these objectives.”

By order of the Federal Open Market Committee, April 20, 2006.
Vincent R. Reinhart,
Secretary, Federal Open Market Committee.

[FR Doc. E6-6492 Filed 4-28-06; 8:45 am]

BILLING CODE 6210-01-P